DEPARTMENT OF HOMELAND SECURITY

Coast Guard

33 CFR Part 117

[CGD01-03-101]

Drawbridge Operation Regulations: Mianus River, CT

AGENCY: Coast Guard, DHS.

ACTION: Notice of temporary deviation from regulations.

SUMMARY: The Commander, First Coast Guard District, has issued a temporary deviation from the drawbridge operation regulations for the Metro-North Bridge, mile 1.0, across the Mianus River at Greenwich, Connecticut. Under this temporary deviation, the bridge may remain in the closed position, Monday through Friday, from 7 a.m. on October 20, 2003 through 7 p.m. on November 26, 2003. On Saturdays during this period, the draw shall open after at a least three-hour advance notice is given. In addition, the draw shall open on signal on Sundays during this period, and from 5 p.m. through midnight, on Friday, October 31, 2003. This temporary deviation is necessary to facilitate structural repairs at the bridge and the bridge.

DATES: This deviation is effective from October 20, 2003 through November 26, 2003.

FOR FURTHER INFORMATION CONTACT: Joseph Schmied, Project Officer, First Coast Guard District, at (212) 668-7165.

SUPPLEMENTARY INFORMATION: The Metro-North Bridge has a vertical clearance in the closed position of 20 feet at mean high water and 27 feet at mean low water. The existing drawbridge operation regulations are listed at 33 CFR 117.209.

The bridge owner, Metro-North Railroad, requested a temporary deviation from the drawbridge operation regulations to facilitate vital structural maintenance at the bridge. The bridge must remain in the closed position to perform these necessary repairs.

Under this temporary deviation, the Metro-North Bridge may remain in the closed position, Monday through Friday, from 7 a.m. on October 20, 2003 through 7 p.m. on November 26, 2003. On Saturdays during this period, the draw shall open on signal after at least a three-hour advance notice is given. Also, the draw shall open on signal on Sundays during this period and from 5 p.m. through midnight, on Friday, October 31, 2003.

The Coast Guard and the bridge owner coordinated this bridge closure with the mariners who normally use this waterway to help facilitate this necessary bridge repair and to minimize any disruption to the marine transportation system.

This deviation from the operating regulations is authorized under 33 CFR 117.35(a), and will be performed with all due speed in order to return the bridge to normal operation as soon as possible.

Dated: October 15, 2003.
Vivien S. Crea,
Rear Admiral, U.S. Coast Guard, Commander, First Coast Guard District.

[FR Doc. 03-26867 Filed 10-23-03; 8:45 am]

BILLING CODE 4910-15-P